DEPARTMENT OF TRANSPORTATION

Federal Transit Administration

Announcement of Fiscal Year 2020 Grants for Buses and Bus Facilities Program Project Selections

AGENCY: Federal Transit Administration (FTA), DOT.

ACTION: Notice; Announcement of Project Selections. Grants for Buses and Bus Facilities Program.

SUMMARY: The U.S. Department of Transportation's (DOT) Federal Transit Administration (FTA) announces the allocation of $463,848,929 to projects under the Fiscal Year (FY) 2020 Grants for Buses and Bus Facilities Program (Bus and Bus Facilities Program) and provides administrative guidance on project implementation.

FOR FURTHER INFORMATION CONTACT: Successful applicants should contact the appropriate FTA Regional Office for information regarding applying for the funds or program-specific information. A list of Regional Offices can be found at www.transit.dot.gov/. Unsuccessful applicants may contact Mark G. Bathrick, Office of Program Management at (202) 366-9955, email: Mark.Bathrick@dot.gov, within 30 days of this announcement to arrange a proposal debriefing. A TDD is available at 1-800-877-8339 (TDD/FIRS).

SUPPLEMENTARY INFORMATION: Federal public transportation law (49 U.S.C. 5339(b)) authorizes FTA to make competitive grants for buses and bus facilities. Federal public transportation law (49 U.S.C. 5338) authorized $289,044,179 for competitive allocations in FY 2020. The Consolidated Appropriations Act, 2020 (Pub. L. 116-94) appropriated an additional $170 million for the Buses and Bus Facilities Program for FY 2020. An additional $20,401 of unawarded FY 2019 and $9,273,773 in FY 2016 funding was also made available. After the statutory set, aside for oversight, $463,920,522 was available for competitive grants under the Buses and Bus Facilities Program.

On January 30, 2020, FTA published a Notice of Funding Opportunity (NOFO) (85 FR 5538) announcing the availability of $454,626,348 in competitive funding under the Buses and Bus Facilities Program, with the option to award additional funds if they are made available to the program prior to the announcement of project selections. These funds will provide financial assistance to states and eligible public entities to replace, rehabilitate, purchase, or lease buses, vans, and related equipment, and for capital projects to rehabilitate, purchase, construct, or lease bus-related facilities. In response to the NOFO, FTA received 282 eligible project proposals from 48 States, the District of Columbia, Guam, and Puerto Rico requesting approximately $1.846 billion in Federal funds. Project proposals were evaluated based on each applicant's responsiveness to the program evaluation criteria outlined in the NOFO.

Based on the criteria in the NOFO, FTA is funding 96 projects, as shown in Table 1, for a total of $463,848,929. Recipients selected for competitive funding are required to work with their FTA Regional Office to submit a grant application in FTA's Transit Award Management System (TrAMS) for the projects identified in the attached table to quickly obligate funds. Grant applications must only include eligible activities applied for in the original project application. Funds must be used consistent with the competitive proposal and for the eligible capital purposes described in the NOFO.

In cases where the allocation amount is less than the proposer's total requested amount, recipients are required to fund the scalable project option as described in the application. If the award amount does not correspond to the scalable option, the recipient should work with the Regional Office to reduce scope or scale the project such that a complete phase or project is accomplished. Recipients may also provide additional local funds to complete a proposed project. A discretionary project identification number has been assigned to each project for tracking purposes and must be used in the TrAMS application.

Selected projects are eligible to incur costs under pre-award authority no earlier than the date projects were publicly announced. Pre-award authority does not guarantee that project expenses incurred prior to the award of a grant will be eligible for reimbursement, as eligibility for reimbursement is contingent upon other requirements, such as planning and environmental requirements, having been met. For more about FTA's policy on pre-award authority, please see the current FTA Apportionments, Allocations, and Program Information and Interim Guidance at https://www.transit.dot.gov/funding/apportionments. Post-award reporting requirements include submission of Federal Financial Reports and Milestone Progress Reports in TrAMS (see FTA Circular 5010.1E, https://www.transit.dot.gov/regulations-and-guidance/fta-circulars/award-management-requirements-circular-50101e). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1, https://www.transit.dot.gov/regulations-and-guidance/fta-circulars/third-party-contracting-guidance). Funds allocated in this announcement must be obligated in a grant by September 30, 2023.

Technical Review and Evaluation Summary: The FTA assessed all project proposals that were submitted under the FY 2020 Bus and Bus Facilities Program competition according to the following evaluation criteria. The specific metrics for each criterion were described in the January 30, 2020, NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

Projects were assigned a final overall rating of Highly Recommended if they were rated Highly Recommended in at least four categories overall, with no Not Recommended ratings. Projects not rated Highly Recommended, were assigned a final overall rating of Recommended if the projects had no Not Recommended ratings. Projects were assigned a rating of Not Recommended if they received a Not Recommended rating in any criteria. The final overall ratings are summarized for 282 eligible project proposals in the table below.

Overall Project Ratings
[Eligible submissions]
Highly Recommended | 174
Recommended | 68
Not Recommended | 40
Total | 282

As outlined in the NOFO, FTA made the final selections based on the technical ratings as well as geographic diversity, projects that support the FTA Accelerating Innovative Mobility and/or United States Department of Transportation Rural Opportunities to Use Transportation for Economic Success Initiatives, percentage of local cost share, location in or support of an opportunity zone, and/or receipt of other recent competitive awards.

As further outlined in the NOFO, in some cases, due to funding limitations, proposers that were selected for funding received less than the amount originally requested.

K. Jane Williams,
Deputy Administrator.

Table 1—FY 20 Grants for Buses and Bus Facilities Project Selections
State | Recipient | Project ID | Project description | Allocation
AK | Fairbanks North Star Borough | D2020-BUSC-096 | Transit Facility Phase 2 | $10,403,343
AK | Ketchikan Indian Community (KIC) | D2020-BUSC-097 | Vehicle Procurement | 93,000
AL | City of Huntsville, Alabama | D2020-BUSC-098 | Multimodal Transfer Station Construction and Operating Facility Re-design and Renovation | 12,541,782
AZ | City of Phoenix Public Transit Department | D2020-BUSC-099 | Bus Replacement | 6,948,750
CA | California Department of Transportation on behalf of Kern Regional Transit | D2020-BUSC-100 | Construction of Kern Transit Bus Maintenance Facility | 1,400,000
CA | Solano County Transit | D2020-BUSC-101 | Solano County Transit Electrical Infrastructure for Charging All-Electric Buses | 1,850,000
CA | Butte County Association of Governments | D2020-BUSC-102 | Purchase electric buses and associated charging equipment | 1,767,769
CA | City of Davis | D2020-BUSC-103 | Bus Replacement Program—Battery Electric Buses | 3,760,000
CA | Monterey-Salinas Transit | D2020-BUSC-104 | Transit System Improvement Project of Monterey County | 2,521,984
CO | Colorado Department of Transportation on behalf of Roaring Fork Transportation Authority | D2020-BUSC-105 | Roaring Fork Transportation Authority Regional Transit Center Renovation and Expansion | 11,475,000
CO | Colorado Department of Transportation on behalf of Durango Transit | D2020-BUSC-106 | Durango Transit Replacement Vehicles | 479,444
CO | Colorado Department of Transportation on behalf of ECO Transit | D2020-BUSC-107 | ECO Transit Bus Replacement Project | 800,000
CO | Colorado Department of Transportation on behalf of Estes Park | D2020-BUSC-108 | Electric Trolley Facility and Electric Trolley Charger for Estes Park | 300,800
CO | Colorado Department of Transportation on behalf of Archuleta County | D2020-BUSC-109 | Archuleta County Bus Center and Bus Purchase | 1,812,000
CT | Connecticut Department of Transportation | D2020-BUSC-110 | CTtransit Stamford Facility Upgrades to Deploy Battery Electric Buses (BEB) | 6,730,532
DC | District Department of Transportation | D2020-BUSC-111 | DC Circulator South Capitol Street Facility Modernization and Expansion Initiative | 5,984,319
DE | Delaware Transit Corporation | D2020-BUSC-112 | Dover Operations Solar Power | 2,480,000
FL | Collier, County of | D2020-BUSC-113 | Collier Area Transit Maintenance Facility Enhancement and Bus Replacement | 9,020,000
FL | Hillsborough Transit Authority | D2020-BUSC-114 | Electric Buses and Infrastructure | 2,742,675
FL | Pinellas Suncoast Transit Authority | D2020-BUSC-115 | Electric Bus Expansion | 1,239,710
FL | Central Florida Regional Transportation Authority, dba LYNX | D2020-BUSC-116 | Battery Electric Bus Replacements | 2,840,000
FL | Jacksonville Transportation Authority | D2020-BUSC-117 | Replacing, Rehabilitating and Overhauling JTA's Facilities and Buses | 11,986,230
GA | Metropolitan Atlanta Rapid Transit Authority (MARTA) | D2020-BUSC-118 | Clayton County Multipurpose Operations and Maintenance Facility | 13,000,000
GU | Guam Regional Transit Authority | D2020-BUSC-119 | Guam Regional Transit Authority's (GRTA) purchase of Electric Buses, Electric Cars, Charging Stations and new Park and Ride Facility Phase1 | 9,558,120
HI | Hawaii Department of Transportation | D2020-BUSC-120 | Purchase Hybrid Buses for Hawaii, Kauai, and Maui | 9,596,669
IA | Iowa Department of Transportation | D2020-BUSC-121 | Iowa Bus Replacement Project | 5,541,710
IA | City of Dubuque | D2020-BUSC-122 | Fleet Replacement, Improvements and New Facility Amenities | 1,073,000
ID | Valley Regional Transit | D2020-BUSC-123 | Compressed Natural Gas Fueling Island System Renovation and Parking Lot Rehabilitation and Expansion | 2,140,000
IL | Bloomington-Normal Public Transit System (DBA Connect Transit) | D2020-BUSC-124 | Downtown Bloomington Transportation Center | 8,000,000
IL | Pace Suburban Bus Division of the Regional Transportation Authority | D2020-BUSC-125 | Lease of Bus Facility Supporting I-90 Service Expansion | 850,464
IL | Greater Peoria Mass Transit District | D2020-BUSC-126 | Construction of a New Facility and Rehabilitation of Existing Maintenance & Operations Building | 10,000,000
IN | Bloomington Public Transportation Corporation | D2020-BUSC-127 | Bus Replacement, Fleet Transition to Low-No Emission Vehicles | 3,200,000
IN | Greater Lafayette Public Transportation Corporation | D2020-BUSC-128 | Compressed Natural Gas Fueling Station Expansion Project | 1,200,000
KS | Topeka Metropolitan Transit Authority | D2020-BUSC-129 | Bus System Reliability and Resiliency Improvements | 4,987,500
KY | Kentucky Transportation Cabinet | D2020-BUSC-130 | Statewide Vehicle Procurement | 3,070,671
KY | Transit Authority of Central Kentucky | D2020-BUSC-131 | TACK Fleet Replacement | 2,037,920
LA | New Orleans Regional Transit Authority | D2020-BUSC-132 | Bus Replacement | 13,916,000
MA | Montachusett Regional Transit Authority | D2020-BUSC-133 | Procure Innovative Automated Fare Collection System | 1,000,000
MA | Lowell Regional Transit Authority | D2020-BUSC-134 | Bus and Lift Replacements | 4,620,000
MA | Worcester Regional Transit Authority | D2020-BUSC-135 | Account-Based Mobile Fare Payment System | 722,606
MA | Pioneer Valley Transit Authority | D2020-BUSC-136 | New Bus Wash Systems for PVTA Bus Maintenance Garages in Northampton and at UMass Amherst | 1,536,000
MA | Berkshire Regional Transit Authority | D2020-BUSC-137 | Bus Replacement | 333,732
MD | MDOT Maryland Transit Administration on behalf of The County Commissioners of Carroll County | D2020-BUSC-138 | Carroll County, MD Light Duty Bus Replacement | 118,174
MD | MDOT Maryland Transit Administration on behalf of Harford County Maryland | D2020-BUSC-139 | CNG Bus Procurement | 3,437,370
MD | MDOT Maryland Transit Administration on behalf of Howard County, Maryland | D2020-BUSC-140 | Replacement Buses and Automated Bus Stop Announcements | 1,239,024
ME | Greater Portland Transit District | D2020-BUSC-141 | Bus Replacement Project | 821,526
ME | Maine Department of Transportation | D2020-BUSC-142 | Acadia Gateway Center Phase 2 Completion | 9,000,000
ME | City of Bangor | D2020-BUSC-143 | Bus Stops and Shelters | 396,800
MI | Michigan Department of Transportation | D2020-BUSC-144 | Bus facility rehabilitation and expansion for rural transit agencies | 2,365,600
MI | Michigan Department of Transportation | D2020-BUSC-145 | Vehicle replacements and expansions for rural public transit agencies | 4,924,382
MI | Michigan Department of Transportation | D2020-BUSC-146 | New construction of a Bay Area Transportation Authority headquarters facility and transfer station | 13,380,000
MI | Battle Creek, City of Battle Creek Transit | D2020-BUSC-147 | Bus Replacement | 5,340,000
MI | Capital Area Transportation Authority | D2020-BUSC-148 | Rehabilitation and Repairs to Downtown Bus Terminal Building | 1,824,416
MN | Minnesota State Department of Transportation | D2020-BUSC-149 | Rural Transit Bus Replacement Project | 4,412,890
MN | Metropolitan Council/Metro Transit on behalf of Minnesota Valley Transit Authority | D2020-BUSC-150 | Burnsville Bus Garage Modernization | 2,800,000
MO | Kansas City Area Transportation Authority | D2020-BUSC-151 | Operations Center Improvements | 7,980,000
MS | City of Hattiesburg | D2020-BUSC-152 | Hub City Transit Bus Stop Improvements | 1,831,200
MT | Montana Department of Transportation on behalf of Opportunity Link, Inc | D2020-BUSC-153 | Bus Replacement Project | 201,549
NC | Town of Chapel Hill | D2020-BUSC-154 | Electric Buses and Infrastructure | 5,600,000
NC | City of Asheville | D2020-BUSC-155 | Bus Stop Enhancement and Improvement Project | 1,000,000
NC | City of Fayetteville | D2020-BUSC-156 | Bus Replacement | 1,734,000
ND | North Dakota Department of Transportation | D2020-BUSC-157 | Statewide Bus Purchases | 15,000,000
NE | The Transit Authority of the City of Omaha | D2020-BUSC-158 | Bus Procurement | 13,558,199
NH | City of Nashua | D2020-BUSC-159 | Safety, Security and Passenger Technology Enhancements | 821,500
NJ | New Jersey Transit Corporation | D2020-BUSC-160 | Wayne Bus Garage Modernization | 14,672,995
NM | Ohkay Owingeh | D2020-BUSC-161 | PoPay Messenger Transit Service Facility | 582,664
NV | Regional Transportation Commission of Washoe County | D2020-BUSC-162 | Hybrid Electric Replacement Buses | 4,080,000
NY | New York City Department of Transportation | D2020-BUSC-163 | South Bronx Bx6 Select Bus Service | 10,000,000
NY | County of Suffolk | D2020-BUSC-164 | Battery Electric Transit Bus Purchase | 1,600,000
OH | Greater Dayton Regional Transit Authority | D2020-BUSC-165 | Bus Replacement | 4,324,608
OH | Butler County Regional Transit Authority | D2020-BUSC-166 | Chestnut Street Multimodal Station and Shared Services Facility | 2,000,000
OH | Portage Area Regional Transportation Authority | D2020-BUSC-167 | CNG Bus Replacement | 446,742
OK | Oklahoma Department of Transportation | D2020-BUSC-168 | Rural Transportation Operations and Maintenance Facility—Phase 2 & 3 | 9,120,000
OK | Oklahoma Department of Transportation | D2020-BUSC-169 | Ki Bois Area Transit System—Oklahoma's Rural and Tribal Connection | 1,452,544
OK | Metropolitan Tulsa Transit Authority | D2020-BUSC-170 | Bus Replacement and Service Modernization | 3,175,604
OR | Rogue Valley Transportation District | D2020-BUSC-171 | Bus Procurement | 2,687,000
OR | Lane Transit District | D2020-BUSC-172 | Electric Bus Procurement | 3,952,851
PA | City of Hazleton | D2020-BUSC-173 | Bus Maintenance and Storage Facility | 10,000,000
PA | Erie Metropolitan Transit Authority | D2020-BUSC-174 | CNG Bus Procurement | 1,466,250
PR | Municipio de Carolina | D2020-BUSC-175 | Bus Procurement | 2,482,880
RI | Rhode Island Public Transit Authority | D2020-BUSC-176 | RIPTA Bus Procurement Program | 8,913,508
SC | Berkeley Charleston Dorchester Council of Governments | D2020-BUSC-177 | Hospitality on Peninsula (HOP) Park & Ride Lot and Multimodal Transit Hub | 2,777,211
SD | South Dakota Department of Transportation | D2020-BUSC-178 | Rural Transit Vehicles Procurement | 1,636,000
TX | Texas Department of Transportation | D2020-BUSC-179 | Rural Transit Facility Development Project | 10,210,000
TX | Metropolitan Transit Authority of Harris County | D2020-BUSC-180 | Fare Collection System | 14,770,058
TX | City of Conroe | D2020-BUSC-181 | Conroe Connection Transit Bus Expansion and Replacement | 896,000
UT | Cache Valley Transit District | D2020-BUSC-182 | Cache Valley Transit District Bus Storage and Maintenance Facility | 18,000,000
VT | Vermont Agency of Transportation | D2020-BUSC-183 | Statewide Small Bus and Sprinter Replacement Project | 836,355
WA | Washington State Department of Transportation | D2020-BUSC-184 | Rural Buses and Bus Facilities | 4,871,549
WA | Intercity Transit | D2020-BUSC-185/D2020-BUSC-186/D2020-BUSC-187 | Maintenance Facility Renovation, Expansion, and Modernization Project | 11,345,700
WA | Spokane Transit Authority | D2020-BUSC-188 | Double Decker Bus Procurement | 2,950,000
WA | Central Puget Sound Regional Transit Authority (Sound Transit) | D2020-BUSC-189 | Bus Procurement | 4,800,000
WA | King County Metro Transit | D2020-BUSC-190 | HVAC Systems Replacement | 4,532,400
WI | City of Madison | D2020-BUSC-191 | Articulated Bus Procurement | 4,676,760
WI | Milwaukee County | D2020-BUSC-192 | Fleet Maintenance Facility Roof Replacement | 3,003,628
WY | Wyoming Department of Transportation on behalf of the University of Wyoming | D2020-BUSC-193 | Transit Maintenance and Storage Facility | 4,237,262
Total: |  |  |  | 463,848,929

[FR Doc. 2020-17970 Filed 8-17-20; 8:45 am]

BILLING CODE P